DEPARTMENT OF COMMERCE

National Oceanic and Atmospheric Administration

50 CFR Part 679

[Docket No. 09100091344-9056-02]

RIN 0648-XN93

Fisheries of the Exclusive Economic Zone Off Alaska; Northern Rockfish, Pacific Ocean Perch, and Pelagic Shelf Rockfish in the Western Regulatory Area and West Yakutat District of the Gulf of Alaska

AGENCY: National Marine Fisheries Service (NMFS), National Oceanic and Atmospheric Administration (NOAA), Commerce.

ACTION: Temporary rule; closure.

SUMMARY: NMFS is prohibiting directed fishing for northern rockfish, Pacific ocean perch, and pelagic shelf rockfish for catcher vessels subject to sideboard limits established under the Central GOA Rockfish Program in the Western Regulatory Area and West Yakutat District of the Gulf of Alaska (GOA). This action is necessary to prevent exceeding the sideboard limits of northern rockfish, Pacific ocean perch, and pelagic shelf rockfish established for catcher vessels in the Western Regulatory Area and West Yakutat District of the GOA.

DATES: Effective 1200 hrs, Alaska local time (A.l.t.), July 1, 2009, through 2400 hrs, A.l.t., July 31, 2009.

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2009 sideboard limits established for catcher vessels subject to sideboard limits in the Central GOA Rockfish Program in the West Yakutat District are 32 metric tons (mt) for Pacific ocean perch and 4 mt for pelagic shelf rockfish. In addition, the 2009 sideboard limits established for catcher vessels subject to sideboard limits under the Central GOA Rockfish Program in the Western Regulatory Area are 0 mt for northern rockfish, Pacific ocean perch, and pelagic shelf rockfish. The sideboard limits are established by the final 2009 and 2010 harvest specifications for groundfish of the GOA (74 FR 7333, February 17, 2009).

In accordance with § 679.82(d)(7)(i)(B), the Administrator, Alaska Region, NMFS (Regional Administrator), has determined that these sideboard limits are insufficient to support a directed fishing allowance for Pacific ocean perch and pelagic shelf rockfish in the West Yakutat District, as well as insufficient to support a directed fishing allowance for Pacific ocean perch, pelagic shelf rockfish, and northern rockfish in the Western Regulatory Area. Therefore, the Regional Administrator is setting a directed fishing allowance of 0 mt for each of these sideboard species in the West Yakutat District and Western Regulatory Area. Consequently, pursuant to § 679.82(d)(7)(ii) NMFS is prohibiting directed fishing for Pacific ocean perch and pelagic shelf rockfish in the West Yakutat District and for northern rockfish, Pacific ocean perch, and pelagic shelf rockfish in the Western Regulatory Area by catcher vessels subject to sideboard limits in the Central GOA Rockfish Program, effective 1200 hrs, A.l.t, July 1, 2009, through 2400 hrs, A.l.t., July 31, 2009.

After the effective date of this closure the maximum retainable amounts at § 679.20(e) and (f) apply at any time during a trip.

Classification

This action responds to the best available information recently obtained from the fishery. Pursuant to 5 U.S.C. 553 (b)(B), the Assistant Administrator for Fisheries, NOAA (AA) finds good cause to waive prior notice and an opportunity for public comment on this action, as notice and comment is unnecessary. Notice and comment is unnecessary because the closure is non-discretionary; pursuant to § 679.82(d)(7)(ii), the Regional Administrator has no choice but to prohibit directed fishing once it is determined that the directed fishing sideboard limit has been attained.

The AA also finds good cause to waive the 30-day delay in the effective date of this action under 5 U.S.C. 553(d)(3). This finding is based upon the reasons provided above for waiver of prior notice and opportunity for public comment.

This action is required by § 679.82 and is exempt from review under Executive Order 12866.

Authority: 16 U.S.C. 1801 et seq.

Dated: May 11, 2009.
Kristen C. Koch,
Acting Director, Office of Sustainable Fisheries, National Marine Fisheries Service.

[FR Doc. E9-11539 Filed 5-15-09; 8:45 am]

BILLING CODE 3510-22-S